DEPARTMENT OF COMMERCE

National Oceanic and Atmospheric Administration

RIN: 0648-XI09

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet June 6-13, 2008. The Council meeting will begin on Sunday, June 8, at 8 a.m., reconvening each day through Friday, June 13. All meetings are open to the public, except a closed session will be held from 8 a.m. to 9 a.m. on Sunday, June 8 to address litigation and personnel matters. The Council will meet as late as necessary each day to complete its scheduled business.

ADDRESSES: The meetings will be held at the Crowne Plaza Hotel, 1221 Chess Drive, Foster City, CA 94404; telephone: (650) 570-5700.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Open Public Comment

Comments on Non-Agenda Items

C. Administrative Matters

1. Future Council Meeting Agenda and Workload Planning

2. Magnuson-Stevens Act Reauthorization Implementation

3. Update and Communication of Research and Data Needs

4. Fiscal Matters

5. Membership Appointments and Council Operating Procedures

D. Highly Migratory Species Management

1. Changes to Routine Management Measures for 2009-10 Seasons

2. Council Recommendations to Regional Fishery Management Organizations

E. Salmon Management

1. Klamath River Fall Chinook Overfishing Concern

F. Groundfish Management

1. NMFS Report

2. Stock Assessment Planning for 2011-12 Groundfish Fishery Decision Making

3. Preliminary Review of Exempted Fishing Permits for 2009

4. Tentative Adoption of 2009-10 Groundfish Harvest Specifications, Management Measures, and Rebuilding Plan Revisions

5. Consideration of Inseason Adjustments

6. Amendment 20: Trawl Rationalization Alternatives

7. Council Clarification of Tentatively Adopted 2009-10 Groundfish Harvest Specifications, Management Measures, and Rebuilding Plan Revisions (if Needed)

8. Final Consideration of Inseason Adjustments (if Needed)

9. Final Adoption of 2009-10 Groundfish Harvest Specifications, Management Measures, and Rebuilding Plan Revisions

G. Coastal Pelagic Species Management

1. Pacific Mackerel Stock Management for 2007-08

H. Habitat

Current Habitat Issues

I. Marine Protected Areas

Review of Rationale for Marine Protected Areas in the Monterey Bay National Marine Sanctuary

SCHEDULE OF ANCILLARY MEETINGS
Friday, June 6, 2008 |
Groundfish Management Team | 1 p.m.
Saturday, June 7, 2008 |
Groundfish Management Team | 8 a.m.
Scientific and Statistical Committee | 1 p.m.
Budget Committee | 2 p.m.
Sunday, June 8, 2008 |
Council Secretariat | 7 a.m.
Groundfish Advisory Subpanel | 8 a.m.
Groundfish Management Team | 8 a.m.
Scientific and Statistical Committee | 8 a.m.
Enforcement Consultants | 1:30 p.m.
Monday, June 9, 2008 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Scientific and Statistical Committee | 8 a.m.
Habitat Committee | 8:30 a.m.
Tuesday, June 10, 2008 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Wednesday, June 11, 2008 |
Council Secretariat | 7 a.m.
California State Delegation | 7 a.m.
Oregon State Delegation | 7 a.m.
Washington State Delegation | 7 a.m.
Enforcement Consultants | 8 a.m.
Groundfish Advisory Subpanel | 8 a.m.
Groundfish Management Team | 8 a.m.
Thursday, June 12, 2008 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary
Friday, June 13, 2008 |
Council Secretariat | 7 a.m.
California State Delegation | 7 a.m.
Oregon State Delegation | 7 a.m.
Washington State Delegation | 7 a.m.
Groundfish Advisory Subpanel | 8 a.m.
Groundfish Management Team | 8 a.m.
Enforcement Consultants | As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: May 19, 2008.
Emily Menashes,
Acting Director, Office of Sustainable Fisheries, National Marine Fisheries Service.

[FR Doc. E8-11580 Filed 5-22-08; 8:45 am]

BILLING CODE 3510-22-S